ENVIRONMENTAL PROTECTION AGENCY

[IL229-2; FRL-8259-4]

Notice of Prevention of Significant Deterioration Final Determination for City of Springfield

AGENCY: Environmental Protection Agency (EPA).

ACTION: Notice of final action.

SUMMARY: This notice announces that on November 22, 2006, the Environmental Appeals Board (EAB) of the EPA dismissed with predjudice a petition for review of a federal Prevention of Significant Deterioration (PSD) permit issued to City of Springfield, Illinois, by the Illinois Environmental Protection Agency (IEPA).

DATES: The effective date for the EAB's decision is November 22, 2006. Pursuant to Section 307(b)(1) of the Clean Air Act, 42 U.S.C. 7607(b)(1), judicial review of this permit decision, to the extent it is available, may be sought by filing a petition for review in the United States Court of Appeals for the Seventh Circuit within 60 days of December 21, 2006.

ADDRESSES: The documents relevant to the above action are available for public inspection during normal business hours at the following address: Environmental Protection Agency, Region 5, 77 West Jackson Boulevard (AR-18J), Chicago, Illinois 60604. To arrange viewing of these documents, call Constantine Blathras at (312) 886-0671.

FOR FURTHER INFORMATION CONTACT: Constantine Blathras, Air and Radiation Division, Air Programs Branch, Environmental Protection Agency, Region 5, 77 W. Jackson Boulevard (AR-18J), Chicago, Illinois 60604. Anyone who wishes to review the EAB decision can obtain it at http://www.epa.gov/eab/.

SUPPLEMENTARY INFORMATION:

Notification of EAB Final Decision

The IEPA, acting under authority of a PSD delegation agreement, issued a PSD permit to the City of Springfield on August 10, 2006, granting approval to construct a new 250 megawatt coal-fired electric generating unit at the City of Springfield's existing power plant in Sangamon County, Illinois. On September 12, 2006, the Sierra Club filed a petition for review of the conditions of the Prevention of Significant Deterioration Permit No. 167120AAO (Application No. 041 10050) which was issued to the City of Springfield, lllinois. On November 17, 2006, the Sierra Club voluntarily withdrew its petition for review in this matter and requested that the EAB enter an order dismissing its petition for review in this matter with prejudice. The Sierra Club requested dismissal because the parties had reached an agreement that obviated the need for further litigation. On November 22, 2006, the EAB granted the Sierra Club's motion and the petition for review was dismissed with prejudice.

Dated: December 12, 2006.
Bharat Mathur,
Deputy Regional Administrator, Region 5.

[FR Doc. E6-21888 Filed 12-20-06; 8:45 am]

BILLING CODE 6560-50-P